DEPARTMENT OF THE INTERIOR

Bureau of Land Management

[OR-010-1020-DF; HAG 08-0138]

Southeast Oregon Resource Advisory Council: Meeting

Pursuant to the Federal Advisory Committee Act, the Department of the Interior Bureau of Land Management (BLM) announces the following advisory committee meeting:

Name: Southeast Oregon Resource Advisory Council (SEORAC).

Time and Date: 8 a.m. August 7, 2008; 8 a.m. August 8, 2008.

Place: Holiday Inn Ontario, 1249 Tapadera Avenue, Ontario, Oregon 97914.

Status: Open to the public.

Matters to be Considered: The SEORAC will be briefed on BLM's Oregon Energy Corridor proposal, fire and fuels management program, Vegetation Treatments Environmental Impact Statement, wild horse and burro program, and Eastside Transportation Strategy. Presentations will be heard on the results of The Nature Conservancy's June After Fire Re-vegetation Symposium, progress of the Steens Mountain Advisory Council Science Strategy and Oregon Explorer project, and status of the Fremont-Winema National Forests' Draft Environmental Impact Statement for Invasive Plant Treatment. Council members will also receive information from designated federal officials, provide constituent updates, tour sites managed by the Vale District of the BLM, give subgroup reports and develop agenda items for the next meeting. Any other matters that may reasonably come before the SEORAC may also be addressed.

The public is welcome to attend all portions of the meeting and may contribute during the public comment period at 11:30 a.m. on August 8, 2008. Those who verbally address the SEORAC during the public comment period are asked to provide a written statement of their comments or presentation. Unless otherwise approved by the SEORAC chair, the public comment period will last no longer than 30 minutes, and each speaker may address the SEORAC for a maximum of 5 minutes.

For Further Information Contact: Program information, meeting records and a roster of council members may be obtained from Scott Stoffel, public affairs specialist, 1301 South G Street, Lakeview, OR 97630, (541) 947-6237. The meeting agenda will be posted at http://www.blm.gov/or/rac/seorrac-minutes.php when available.

Should you require reasonable accommodation, please contact the BLM Lakeview District at (541) 947-2177 as soon as possible.

Thomas E. Rasmussen,
Field Manager.

[FR Doc. E8-15761 Filed 7-9-08; 8:45 am]

BILLING CODE 4310-33-P